ADVISORY COUNCIL ON HISTORIC PRESERVATION

Notice of Meeting

AGENCY: Advisory Council on Historic Preservation.

ACTION: Notice of meeting.

SUMMARY: Notice is hereby given that the Advisory Council on Historic Preservation (ACHP) will meet Friday, April 9, 2010. The meeting will be held in Room MO9 of the Old Post Office Building, 1100 Pennsylvania Ave., NW., Washington, DC at 9 a.m.

The ACHP was established by the National Historic Preservation Act of 1966 (16 U.S.C. 470 et seq.) to advise the President and Congress on national historic preservation policy and to comment upon Federal, federally assisted, and federally licensed undertakings having an effect upon properties listed in or eligible for inclusion in the National Register of Historic Places. The ACHP's members are the Architect of the Capitol; the Secretaries of the Interior, Agriculture, Defense, Housing and Urban Development, Commerce, Education, Veterans Affairs, and Transportation; the Administrator of the General Services Administration; the Chairman of the National Trust for Historic Preservation; the President of the National Conference of State Historic Preservation Officers; a Governor; a Mayor; a Native American; and eight non-Federal members appointed by the President.

The agenda for the meeting includes the following:

Call to Order—9 a.m.

I. Chairman's Welcome

II. Chairman's Award Presentation

III. Native American Activities

A. Native American Program Report

1. HUD Delegation of Tribal Consultation Responsibilities

B. Native American Advisory Group

IV. National Parks Second Century Commission Report: Recommendations for ACHP Action

V. Sustainability and Historic Preservation Task Force

VI. Preservation Initiatives Committee

A. America's Great Outdoors Initiative and Historic Preservation

B. Preserve America Program Update

VII. Federal Agency Programs Committee

A. Recovery Act Update

B. Historic Preservation and Energy Development Working Group

C. Archaeology Subcommittee

D. Cape Wind Section 106 Case Update

VIII. Communications, Education, and Outreach Committee

A. Engaging Youth in Historic Preservation

B. New Directions for ACHP Awards Programs

IX. Chairman's Report

X. Executive Director's Report

XII. Adjourn

Note: The meetings of the ACHP are open to the public.

If you need special accommodations due to a disability, please contact the Advisory Council on Historic Preservation, 1100 Pennsylvania Avenue, NW., Room 803, Washington, DC, 202-606-8503, at least seven (7) days prior to the meeting. For further information: Additional information concerning the meeting is available from the Executive Director, Advisory Council on Historic Preservation, 1100 Pennsylvania Avenue, NW., #803, Washington, DC 20004.

Dated: March 29, 2010.
John M. Fowler,
Executive Director.

[FR Doc. 2010-7643 Filed 4-7-10; 8:45 am]

BILLING CODE 4310-K6-M